DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Action

On March 1, 2022, OFAC determined that the property and interests in property subject to U.S. jurisdiction of the following persons are blocked under the relevant sanctions authority listed below.

Individuals

1. MBAGA, Peter Charles (a.k.a. “ABU KAIDHA”; a.k.a. “Issa”), Johannesburg, South Africa; DOB 25 Sep 1976; nationality Tanzania; Gender Male; Secondary sanctions risk: section 1(b) of Executive Order 13224, as amended by Executive Order 13886; Passport AB321592 (Tanzania) expires 08 Mar 2019 (individual) [SDGT] (Linked To: ISLAMIC STATE OF IRAQ AND SYRIA—MOZAMBIQUE).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, ISLAMIC STATE OF IRAQ AND SYRIA—MOZAMBIQUE, a person whose property and interests in property are blocked pursuant to E.O. 13224.

2. HOOMER, Farhad (a.k.a. OMAR, Farhad; a.k.a. UMAR, Farhaad; a.k.a. `UMAR, Farhad), 57 Spathodia Drive, Isipingo Hills, KwaZulu Natal 4133, South Africa;72 Riley Road, Overport, Essenwood, Berea 4001, South Africa; 9 Nugget Road, Reservoir Hills, Durban 4090, South Africa; DOB 18 Nov 1976; nationality South Africa; citizen South Africa; Gender Male; Secondary sanctions risk: section 1(b) of Executive Order 13224, as amended by Executive Order 13886; Passport A05256584 (South Africa); alt. Passport A04151202 (South Africa); National ID No. 7611185236087 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

3. MILLER, Siraaj, 34 Lupin, Lentegeur, Mitchells Plain, Cape Town, South Africa; DOB 28 Sep 1977; POB Cape Town, South Africa; nationality South Africa; citizen South Africa; Gender Male; Secondary sanctions risk: section 1(b) of Executive Order 13224, as amended by Executive Order 13886; National ID No. 7709285116082 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

4. ABADIGGA, Abdella Hussein (a.k.a. ABADIGGA, Abdella Asid; a.k.a. ABADIKA, Abdallah Asid; a.k.a. USSENI, Abdallah; a.k.a. “ABU HAMZA”; a.k.a. “CARLOS, Abdi”), 48 Central Road, New Town, Johannesburg, South Africa; DOB 01 Feb 1974; POB Jimma, Oromia Regional State, Ethiopia; nationality Ethiopia; citizen Ethiopia; Gender Male; Secondary sanctions risk: section 1(b) of Executive Order 13224, as amended by Executive Order 13886; Passport T00043812 (South Africa); Refugee ID Card 7402016297260 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

Dated: March 1, 2022.
Andrea M. Gacki,
Director, Office of Foreign Assets Control, U.S. Department of the Treasury.

[FR Doc. 2022-04693 Filed 3-4-22; 8:45 am]

BILLING CODE 4810-AL-P